DEPARTMENT OF LABOR

Employment and Training Administration

[TA-W-70,276]

Ecoquest Holdings Corporation, Greeneville, TN; Amended Certification Regarding Eligibility To Apply for Worker Adjustment Assistance

In accordance with Section 223 of the Trade Act of 1974, as amended (“Act”), 19 U.S.C. 2273, and Section 246 of the Trade Act of 1974 (26 USC 2813), as amended, the Department of Labor issued a Certification of Eligibility to apply for Worker Adjustment Assistance and Alternative Trade Adjustment Assistance on July 1, 2009, applicable to workers of Ecoquest Holdings Corporation, Greeneville, Tennessee. The notice was published in the Federal Register on August 19, 2009 (74 FR 41932).

At the request of the State agency, the Department reviewed the certification for workers of the subject firm. The workers are engaged in activity related to the production of air and water purification units.

Findings show that there was a previous certification, TA-W-60,799, issued on February 28, 2007, for the workers of the Greenville, Tennessee location of Ecoquest Holding Corporation. That certification expires February 28, 2009. To avoid an overlap in worker group coverage for the workers of the Greenville, Tennessee location of Ecoquest Holding Corporation, the certification is being amended to change the impact date from May 18, 2008 to March 1, 2009.

Accordingly, the Department is amending the certification to properly reflect this matter.

The intent of the Department's certification is to include all workers of Ecoquest Holding Corporation who were adversely affected by a shift in production of air and water purification units to China.

The amended notice applicable to TA-W-70,276 is hereby issued as follows:

All workers of Ecoquest Holdings Corporation, Greeneville, Tennessee who became totally or partially separated from employment on or after March 1, 2009, through July 1, 2011, are eligible to apply for adjustment assistance under Section 223 of the Trade Act of 1974, and are also eligible to apply for alternative trade adjustment assistance under Section 246 of the Trade Act of 1974.

Signed in Washington, DC, this 27th day of October, 2009.
Richard Church,
Certifying Officer, Division of Trade Adjustment Assistance.

[FR Doc. E9-27103 Filed 11-10-09; 8:45 am]

BILLING CODE 4510-FN-P